DEPARTMENT OF JUSTICE

Notice of Lodging of Consent Decree Under the Comprehensive Environmental Response, Compensation, and Liability Act

Notice is hereby given that on August 15, 2008, two proposed Consent Decrees in United States of America v. Camille J. Amato, et al., Civil Action No. 08-CV-6366 were lodged with the United States District Court for the Western District of New York.

In this action the United States sought to recover from the defendants response costs incurred by the United States Environmental Protection Agency (“EPA”) in responding to releases or threatened releases of hazardous substances at or from the Penn Yan Superfund Site, located at 15 Waddell Avenue in the Village of Penn Yan, Yates County, New York (the “Site”). The two Consent Decrees memorialize two separate settlements and require the settling parties to reimburse EPA's past response costs related to the Site.

The first Consent Decree, between the United States and the County of Yates (“Yates County”) in the State of New York, requires that Yates County pay to the EPA Hazardous Substance Superfund the principal sum of $275,000, plus interest, in two installments of $137,500. The first payment is due within 60 days of entry of the Consent Decree, and the second payment is due by the first anniversary of that date.

The second Consent Decree, between the United States and Camille J. Amato, Thomas Amato, Penn Yan Boat Company LLC, Penn Yan Marine Manufacturing Corp., and Camille Properties, Inc., requires the settling parties to pay to the EPA Hazardous Substance Superfund the principal sum of $140,000, plus interest, in three installments. The first payment of $50,000 is due within 30 days of entry of the Consent Decree, with the second and third payments of $45,000 plus interest due on the first and second anniversary of that date, respectively.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States v. Camille J. Amato, et al., Civil Action No. 08-CV-6366 (W.D.NY), D.J. Ref. 90-11-3-09115.

The Decree may be examined at the Office of the United States Attorney, Western District of New York, 100 State Street, Rochester, NY 14614, and at U.S. EPA Region II, 290 Broadway, New York, New York 10007. During the public comment period, the Decree, may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by e-mail or fax, forward a check in that amount to the Consent Decree Library at the stated address.

Ronald G. Gluck,
Assistant Chief, Environmental Enforcement Section, Environment and Natural Resources Division.

[FR Doc. E8-19290 Filed 8-19-08; 8:45 am]

BILLING CODE 4410-15-P